DEPARTMENT OF ENERGY

Federal Energy Regulatory Commission

[Docket No. CP10-22-000]

Magnum Gas Storage, LLC; Magnum Solutions, LLC; Notice of Availability of the Environmental Assessment for the Proposed Magnum Storage Project and Proposed Pony Express Resource Management Plan Amendment for the Bureau of Land Management

November 23, 2010.

The staff of the Federal Energy Regulatory Commission (FERC or Commission) has prepared an environmental assessment (EA) for the natural gas storage and pipeline facilities proposed by Magnum Gas Storage, LLC and Magnum Solutions, LLC (Magnum) in the above-referenced docket.

The EA was prepared to satisfy the requirements of the National Environmental Policy Act of 1969 (NEPA). The FERC staff concludes that approval of the proposed project, with appropriate mitigating measures, would not constitute a major Federal action significantly affecting the quality of the human environment.

The Bureau of Land Management (BLM), the State of Utah, Public Lands Policy Coordination Office, and Millard County, Utah participated as cooperating agencies in the preparation of the EA. Cooperating agencies have jurisdiction by law or special expertise with respect to resources potentially affected by the proposal and participate in the NEPA analysis. The BLM intends to adopt and use the EA to consider the issuance of right-of-way grants on federally administered lands as well as to amend the BLM's Salt Lake Field Office Pony Express Resource Management Plan (RMP) to establish a utility corridor. As such, the EA addresses the BLM's Proposed Pony Express Resource Management Plan Amendment (PRMPA). While the conclusions and recommendations presented in the EA were developed with input from the cooperating agencies, the BLM will present its own conclusions and recommendations in its respective Record of Decision for the project.

The EA/PRMPA addresses the potential environmental effects of the construction and operation of the following project facilities:

• Four natural gas storage caverns;

• Five water supply wells;

• Four cavern solution mining and natural gas injection/withdrawal wells;

• Numerous project-related facilities including pumping and compressor stations, gas handling equipment, associated valves and piping, electric generators, and other support buildings/systems;

• Three brine evaporation ponds;

• Several groundwater monitoring wells and other groundwater monitoring equipment; and

• A 61.6-mile-long, 36-inch-diameter natural gas transmission pipeline and associated facilities.

The EA/PRMPA has been placed in the public files of the FERC and is available for public viewing on the FERC's Web site at http://www.ferc.gov using the eLibrary link. A limited number of copies of the EA are available for distribution and public inspection at: Federal Energy Regulatory Commission, Public Reference Room, 888 First Street, NE., Room 2A, Washington, DC 20426, (202) 502-8371.

Copies of the EA/PRMPA have been mailed to Federal, State, and local government representatives and agencies; elected officials; environmental and public interest groups; Native American tribes; potentially affected landowners and other interested individuals and groups; newspapers and libraries in the project area; and parties to this proceeding.

Any person wishing to comment on the EA/PRMPA may do so. Your comments should focus on the potential environmental effects, reasonable alternatives, and measures to avoid or lessen environmental impacts. The more specific your comments, the more useful they will be. To ensure that your comments are properly recorded and considered prior to a Commission decision on the proposal, it is important that we receive your comments in Washington, DC on or before December 23, 2010. Comments specific to the PRMPA should be addressed to the BLM (see specific procedures in Attachment 1).

For your convenience, there are three methods you can use to submit your comments to the Commission. In all instances please reference the project docket number (CP10-22-000) with your submission. The Commission encourages electronic filing of comments and has dedicated eFiling expert staff available to assist you at 202-502-8258 or efiling@ferc.gov.

(1) You may file your comments electronically by using the eComment feature, which is located on the Commission's Web site at http://www.ferc.gov under the link to Documents and Filings. An eComment is an easy method for interested persons to submit brief, text-only comments on a project;

(2) You may file your comments electronically by using the eFiling feature, which is located on the Commission's Web site at http://www.ferc.gov under the link to Documents and Filings. With eFiling you can provide comments in a variety of formats by attaching them as a file with your submission. New eFiling users must first create an account by clicking on “eRegister.” You will be asked to select the type of filing you are making. A comment on a particular project is considered a “Comment on a Filing”; or

(3) You may file a paper copy of your comments at the following address: Kimberly D. Bose, Secretary, Federal Energy Regulatory Commission, 888 First Street, NE., Room 1A, Washington, DC 20426.

Although your comments will be considered by the Commission, simply filing comments will not serve to make the commentor a party to the proceeding. Any person seeking to become a party to the proceeding must file a motion to intervene pursuant to Rule 214 of the Commission's Rules of Practice and Procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at (866) 208-FERC or on the FERC Web site (http://www.ferc.gov) using the eLibrary link. Click on the eLibrary link, click on “General Search” and enter the docket number excluding the last three digits in the Docket Number field (i.e., CP10-22-000). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to http://www.ferc.gov/esubscribenow.htm.

The BLM will issue a separate Decision Record (DR) for this project. As part of the BLM decision-making process, certain additional steps must be completed. Details on how to participate in that process are provided below.

BLM Proposed Plan Amendment

The EA/PRMPA contains a Proposed Amendment of the Pony Express Resource Management Plan. The amendment would create a 250-foot-wide utility corridor. Pursuant to BLM's planning regulations at 43 CFR 1610.5-2, any person who participated in the planning process for this Proposed Plan Amendment and has an interest which may be adversely affected by the planning decision may protest approval of the planning decision within 30 days from the date this Notice of Availability for the EA/PRMPA is published in the Federal Register. For further information on filing a protest of the BLM planning decision, please see the accompanying protest regulations in the pages that follow (labeled as Attachment #1). The regulations specify the required elements of your protest. Take care to document all relevant facts. As much as possible, reference or cite the planning documents or available planning records (e.g., meeting minutes or summaries, correspondence, etc.). If your protest does not include all of the elements outlined in 43 CFR 1610.5-2, the BLM will not respond to your protest.

E-mailed and faxed protests will not be accepted as valid protests unless the protesting party also provides the original letter by either regular or overnight mail postmarked by the close of the BLM's protest period. Under these conditions, the BLM will consider the emailed or faxed protest as an advance copy and will afford it full consideration. If you wish to provide the BLM with such advance notification, please direct faxed protests to the attention of Brenda Hudgens-Williams, BLM protest coordinator, at (202) 912-7212, and e-mailed protests to: Brenda_Hudgens-Williams@blm.gov.

All protests, including the follow-up letter to emails or faxes, must be in writing and mailed to one of the following addresses:

Regular mail | Overnight mail
Director (210) | Director (210)
Attention: Brenda Williams | Attention: Brenda Williams
P.O. Box 66538 | 1620 L Street, NW., Suite 1075
Washington, DC 20035 | Washington, DC 20036

Before including your address, phone number, e-mail address, or other personal identifying information in your protest, be advised that your entire protest—including your personal identifying information—may be made publicly available at any time. While you can ask us in your protest to withhold from public review your personal identifying information, we cannot guarantee that we will be able to do so.

The BLM Director will make every attempt to promptly render a decision on each protest. The decision will be in writing and will be sent to the protesting party by certified mail, return receipt requested. The decision of the BLM Director shall be the final decision of the Department of the Interior. Responses to protest issues will be compiled and formalized in a Director's Protest Decision Report made available following issuance of the decisions. Upon resolution of all land use plan amendment protests, the BLM will issue an Approved RMP Amendment and DR.

Unlike land use planning decisions, implementation decisions included in this EA/PRMPA are not subject to protest under the BLM planning regulations, but are subject to an administrative review process, through appeals to the Office of Hearings and Appeals, Interior Board of Land Appeals pursuant to 43 CFR, part 4, subpart E. Implementation decisions generally constitute the BLM's final approval allowing on-the-ground actions to proceed. Where implementation decisions are made as part of the land use planning process, they are still subject to the appeals process or other administrative review as prescribed by specific resource program regulations once the BLM resolves the protests to land use planning decisions and issues an Approved RMP Amendment and DR. The BLM's Approved RMP Amendment and DR will therefore identify the implementation decisions made in the plan that may be appealed to the Office of Hearing and Appeals.

Kimberly D. Bose,
Secretary.

[FR Doc. 2010-30162 Filed 11-30-10; 8:45 am]

BILLING CODE 6717-01-P